POSTAL REGULATORY COMMISSION

[Docket No. CP2013-78; Order No. 1824]

International Mail Contract

AGENCY: Postal Regulatory Commission.

ACTION: Notice.

SUMMARY: The Commission is noticing a recent Postal Service filing seeking to include a new International Business Reply Service (IBRS) agreement within the IBRS Competitive Contract 3 product. This notice informs the public of the filing, invites public comment, and takes other administrative steps.

DATES: Comments are due: September 10, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Postal Service Filing

III. Commission Action

IV. Ordering Paragraphs

I. Introduction

The Postal Service seeks to include a new International Business Reply Service (IBRS) agreement (Agreement) within the IBRS Competitive Contract 3 (MC2011-21) product.¹ This Notice informs the public of the filing and addresses other administrative steps.

¹ Notice of the United States Postal Service Filing of a Functionally Equivalent International Business Reply Service Competitive Contract 3 Negotiated Service Agreement, August 29, 2013 (Notice).

II. Postal Service Filing

Background. The Postal Service filed its Notice, along with four attachments, pursuant to 39 CFR 3015.5. The attachments consist of:

Attachment 1—a redacted version of the Agreement;

Attachment 2—a redacted version of the certified statement required by 39 CFR 3015.5(c)(2);

Attachment 3—a redacted version of Governors' Decision No. 08-24; and

Attachment 4—an Application for Non-Public Treatment of material filed under seal (unredacted versions of Attachments 1 through 3 and supporting financial workpapers).

The Postal Service describes the Agreement as a successor to an existing contract with the same customer identified in Docket No. CP2012-54. Notice at 3. It also identifies several differences between the new contract and the IBRS 3 baseline contract, but maintains the differences are minor and do not affect the fundamental service the Postal Service is offering or the fundamental structure of the contract.² Id. at 5-6.

² Id. at 5-6. The IBRS 3 baseline contract was approved in Docket Nos. MC2011-21 and CP2011-59. See Docket Nos. MC2011-21 and CP2011-59, Order No. 684, Order Approving International Business Reply Service Competitive Contract 3 Negotiated Service Agreement, February 28, 2011.

The Agreement is to take effect September 15, 2013, the day after the Docket No. CP2012-54 contract expires. Notice at 3. It is scheduled to expire one year after its effective date or the last day of the month that falls one calendar year from the effective date, whichever is later, unless termination occurs earlier. Id. at 4.

Postal Service representations. The Postal Service asserts that the instant contract is in compliance with 39 U.S.C. 3633; is functionally equivalent to other IBRS agreements; and fits within the Mail Classification Schedule language for IBRS contracts. Id. at 4-5. Accordingly, it asserts that the contract should be included within IBRS Competitive Contracts 3 (MC2011-21). Id. at 6.

III. Commission Action

The Commission establishes Docket No. CP2013-78 for consideration of matters raised in the Postal Service's Notice. Kenneth R. Moeller is appointed to serve as an officer of the Commission (Public Representative).

Interested persons may submit comments on whether the Agreement is consistent with the policies of 39 U.S.C. 3632, 3633, or 3642, 39 CFR 3015.5, and 39 CFR part 3020, subpart B. Comments are due no later than September 10, 2013. The public portions of these filings can be accessed via the Commission's Web site (http://www.prc.gov). Information on how to obtain access to sealed material appears in 39 CFR part 3007.

IV. Ordering Paragraphs

It is ordered:

1. The Commission establishes Docket No. CP2013-78 for consideration of matters raised in the Postal Service Notice filed August 29, 2013.

2. Pursuant to 39 U.S.C. 505, the Commission appoints Kenneth R. Moeller to serve as an officer of the Commission (Public Representative) to represent the interests of the general public in this docket.

3. Comments are due no later September 10, 2013.

4. The Secretary shall arrange for publication of this order in the Federal Register.

By the Commission.
Shoshana M. Grove,
Secretary.

[FR Doc. 2013-21620 Filed 9-4-13; 8:45 am]

BILLING CODE 7710-FW-P